DEPARTMENT OF DEFENSE

Department of the Army, Corps of Engineers

Availability of a Final Integrated Feasibility Report (Feasibility Report/Environmental Impact Statement), Little Colorado River at Winslow, Navajo County, Arizona, Flood Risk Management Project

AGENCY: Department of the Army, U.S. Army Corps of Engineers, DoD.

ACTION: Notice of availability.

SUMMARY: The U.S. Army Corps of Engineers (Corps), in cooperation with Navajo County Flood Control District, announces the availability of a Final Integrated Feasibility Report (Final IFR) including Feasibility Report and Environmental Impact Statement (EIS) for the Little Colorado River at Winslow, Navajo County, Arizona Flood Risk Management Project for review and comment. The study evaluates alternatives to reduce the risk of damages and to reduce the life, safety, and health risks caused by flooding of the Little Colorado River (LCR) to the City of Winslow, surrounding community, and public and private infrastructure.

DATES: The Final IFR is available for a 30-day review period pursuant to the National Environmental Policy Act (NEPA).

ADDRESSES: Questions or comments concerning the Final IFR may be directed to: Eduardo T. De Mesa.; Chief, Planning Division; U.S. Army Corps of Engineers; Los Angeles District; 915 Wilshire Boulevard, Suite 930; ATTN: Mr. Kirk C. Brus, CESPL-PD-RL; Los Angeles, CA 90017-3401 or LCRWinslow@usace.army.mil.

FOR FURTHER INFORMATION CONTACT: Mr. Richard Legere, U.S. Army Corps of Engineers, Los Angeles District, phone number (602) 230-6907, and Mr. Kirk C. Brus, U.S. Army Corps of Engineers, Los Angeles District, phone number (213) 452-3876.

SUPPLEMENTARY INFORMATION: Comments on the Final IFR may also be given to the contacts listed under ADDRESSES.

The document is available for review at:

(1) Online at http://www.spl.usace.army.mil/Missions/CivilWorks/ProjectsStudies/LittleColoradoRiverWinslow.aspx

(2) U.S. Army Corps of Engineers, Arizona-Nevada Area Office, 3636 N Central Ave., Suite 900, Phoenix, AZ 85012-1939

(3) Navajo County Library District; 121 W Buffalo Street, Holbrook, AZ 86025

(4) Winslow Public Library; 420 W Gilmore Street, Winslow, AZ 86047

(5) Holbrook Public Library; 403 Park St., Holbrook, AZ 86025

(6) Hopi Public Library; 1 Main Street Kykotsmovi, AZ 86039

(7) Navajo County Flood Control District, 100 W Public Works Drive, Holbrook, AZ 86025

(8) U.S. Army Corps of Engineers, Los Angeles District; 915 Wilshire Blvd., Los Angeles, CA 90017

A Notice of Intent to prepare the Draft EIS was published in the Federal Register on February 27, 2009 (74 FR 8918). A Notice of Availability for the Draft IFR was published in the Federal Register on June 3, 2016 (81 FR 35756). Public involvement process included a formal public scoping meeting in Winslow, Arizona, on March 24, 2009. The Draft IFR was made available to the public through the Corps Los Angeles District's website on May 26, 2016, and notices that information was available to interested parties and stakeholders were mailed. Two public meetings were held in Winslow on June 9, 2016 concurrent with the release of the Draft IFR, and the public provided oral and written comments during these meetings. Comments on the Draft IFR were also accepted in writing for a 45-day period extending from June 3, 2016 through July 18, 2016. All comments provided on the Draft IFR and responses to comments can be found in the Final IFR, Appendix I (Environmental).

Dated: September 27, 2018.
Aaron C. Barta,
Colonel, U.S. Army, Commander and District Engineer.

[FR Doc. 2018-22134 Filed 10-11-18; 8:45 am]

BILLING CODE 3720-58-P